FEDERAL RESERVE SYSTEM

Change in Bank Control Notices; Acquisitions of Shares of a Bank or Bank Holding Company

The notificant listed below has applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notice is available for immediate inspection at the Federal Reserve Bank indicated. The notice also will be available for inspection at the offices of the Board of Governors. Interested persons may express their views in writing to the Reserve Bank indicated for that notice or to the offices of the Board of Governors. Comments must be received not later than November 3, 2016.

A. Federal Reserve Bank of Kansas City (Dennis Denney, Assistant Vice President) 1 Memorial Drive, Kansas City, Missouri 64198-0001:

1. Otten Investments, LP, Norfolk, Nebraska, and Jarvis Otten, Norfolk, Nebraska individually and as general partners; to acquire additional shares and control of FEO Investments, Inc., and thereby acquire shares and control of Elkhorn Valley Bank & Trust, both in Norfolk, Nebraska.

B. Federal Reserve Bank of Chicago (Colette A. Fried, Assistant Vice President) 230 South LaSalle Street, Chicago, Illinois 60690-1414:

1. Matthew K. Murvay, Aliso Viejo, California; to acquire control of Huron Valley Bancorp, Inc., and thereby control Huron Valley State Bank, both in Milford, Michigan.

Board of Governors of the Federal Reserve System, October 14, 2016.
Margaret McCloskey Shanks,
Deputy Secretary of the Board.

[FR Doc. 2016-25265 Filed 10-18-16; 8:45 am]

BILLING CODE 6210-01-P